DEPARTMENT OF THE INTERIOR

Bureau of Land Management

[NEW 149341 and NEW 179095]

Public Land Order No. 7814; Partial Revocation of Bureau of Reclamation Order Dated July 11, 1955, and Transfer of Administrative Jurisdiction, Niobrara River Lands; NE

AGENCY: Bureau of Land Management, Interior.

ACTION: Public Land Order.

SUMMARY: This order revokes in-part a withdrawal created by a Bureau of Reclamation Order. The revocation affects 185.88 acres of public lands withdrawn on behalf of the Bureau of Reclamation for the O'Neil Unit, Pick-Sloan Missouri River Basin Project. The Bureau of Reclamation has determined that it no longer needs the lands for reclamation purposes. This order also transfers administrative jurisdiction of the lands to the National Park Service for management under the provisions of the Wild and Scenic Rivers Act and the Niobrara Scenic River Designation Act of 1991.

DATES: Effective Date: May 16, 2013.

FOR FURTHER INFORMATION CONTACT: Janelle Wrigley, Realty Officer, Bureau of Land Management, 5353 North Yellowstone Road, Cheyenne, Wyoming 82003, 307-775-6257 or via email at jwrigley@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Niobrara Scenic River Designation Act of 1991, 105 STAT. 254, designated certain segments of the Niobrara River in Nebraska as components of the Wild and Scenic Rivers System. Included within the boundary of the designated river are 185.88 acres of public lands withdrawn as part of the O'Neil Unit, Pick-Sloan Missouri River Basin Reclamation Project, in Brown and Keya Paha Counties, Nebraska. The Bureau of Reclamation has determined that it no longer needs the 185.88 acres of public lands for reclamation purposes.

The Niobrara Scenic River Designation Act of 1991 made the 185.88 acres subject to management under the Wild and Scenic Rivers Act of 1968, Public Law 90-542 (16 U.S.C. 1271-1287), which specifically authorizes the transfer of Federal land for administration for river management purposes in accordance with the Act. Pursuant to Section 6(e) of the Wild and Scenic Rivers Act of 1968, 16 U.S.C. 1277(e), the National Park Service requested that the 185.88 acres be transferred to its administrative jurisdiction for management under the provisions of the Wild and Scenic Rivers Act and the Niobrara Scenic River Designation Act of 1991.

Order

By virtue of the authority vested in the Secretary of the Interior by Section 204 of the Federal Land Policy and Management Act of 1976 (43 U.S.C. 1714), Public Law 90-542 (16 U.S.C. 1271-1287), and Reorganization Plan No. 3 of 1950 (64 STAT. 1262), it is ordered as follows:

1. The Bureau of Reclamation Order dated July 11, 1955, which withdrew public lands and reserved them on behalf of the Bureau of Reclamation for the Missouri River Basin Project, is hereby revoked insofar as it affects the following described lands:

Sixth Principal Meridian, Nebraska

T. 32 N., R. 22 W.,

Sec. 2, lot 9;

Sec. 3, lot 9;

Sec. 5, lot 9.

T. 33 N., R. 23 W.,

Sec. 35, lot 7.

T. 33 N., R. 24 W.,

Sec. 22, lot 5;

Sec. 25, lot 4;

Sec. 27, SW¼SW¼;

Sec. 28, SW¼NE¼ and E½SE¼.

The areas described aggregate 185.88 acres in Keya Paha and Brown Counties.

2. The lands described in Paragraph 1 are hereby transferred to the administrative jurisdiction of the National Park Service to be managed in accordance with the provisions of the Wild and Scenic Rivers Act of 1968, 16 U.S.C. 1271-1287, and the Niobrara Scenic River Designation Act of 1991, 105 STAT. 254.

Dated: May 2, 2013.
Rhea S. Suh,
Assistant Secretary—Policy, Management and Budget.

[FR Doc. 2013-11729 Filed 5-15-13; 8:45 am]

BILLING CODE 4310-MN-P